DEPARTMENT OF TRANSPORTATION

Federal Highway Administration

Notice of Intent To Prepare Environmental Impact Statement, I-495 & I-270 Managed Lanes Study, Montgomery and Prince George's Counties, Maryland and Fairfax County, Virginia

AGENCY: Maryland Department of Transportation State Highway Administration (MDOT SHA), Federal Highway Administration (FHWA), Department of Transportation (DOT).

ACTION: Notice of intent to prepare an Environmental Impact Statement (EIS).

SUMMARY: The FHWA, as the Lead Federal Agency, and MDOT SHA, as the Local Project Sponsor, are issuing this notice to advise the public of our intention to prepare an EIS for the I-495 & I-270 Managed Lanes Study (Study). The Study is the first element of a broader Traffic Relief Plan as announced by Governor Larry Hogan in September 2017, which considers improvements along the entire length of I-495 (Capital Beltway), as well as the entire length of I-270 (Dwight D. Eisenhower Memorial Highway) up to I-70 in Frederick County, Maryland. This EIS will evaluate the potential environmental impacts of alternatives that address congestion within the specific Study scope of I-495 from south of the American Legion Bridge in Fairfax County, Virginia to east of the Woodrow Wilson Bridge and on I-270 from I-495 to I-370, including the east and west I-270 spurs in Montgomery and Prince George's Counties, Maryland. The EIS will be prepared in accordance with regulations implementing the National Environmental Policy Act (NEPA) and provisions of the Fixing America's Surface Transportation (FAST) Act and will include a range of reasonable alternatives, including a “No Build” alternative.

FOR FURTHER INFORMATION CONTACT: Jeanette Mar, Environmental Program Manager, Federal Highway Administration, Maryland Division, George H. Fallon Federal Building 31 Hopkins Plaza, Suite 1520, Baltimore MD 21201, (410) 779-7152, or email at jeanette.mar@dot.gov. Lisa B. Choplin, Project Director, I-495 & I-270 P3 Project Office, Maryland Department of Transportation State Highway Administration, 707 North Calvert Street, Baltimore, MD 21202, (833) 858-5960, or email at 495-270-P3@sha.state.md.us.

SUPPLEMENTARY INFORMATION: The purpose of this notice is to: (1) Alert interested parties to the FHWA and MDOT SHA plan to prepare the EIS; (2) provide information on the nature of the proposed action; (3) solicit public and agency input regarding the scope of the EIS, including the purpose and need, alternatives to be considered, and impacts to be evaluated; and (4) announce that public and agency scoping meetings will be conducted.

The Study limits extend to areas in Montgomery and Prince George's counties, Maryland along I-495 (Capital Beltway) from south of the American Legion Bridge in Fairfax County, Virginia, to east of the Woodrow Wilson Bridge and on I-270 (Dwight D. Eisenhower Memorial Highway) from I-495 to I-370 including the east and west I-270 spurs.

At the present time, high travel demand from commuter, business, and recreational trips results in severe congestion nearly 10 hours a day in the Study corridors. Travelers place a high value on reaching their destinations in a timely manner, and in recent years, the Study corridors have become so unreliable that uncertain travel times are experienced daily. Managed lanes are needed to provide more dependable travel times and congestion relief. Motorists on I-495 and I-270 do not have an option for efficient travel during extensive periods of congestion. Additional roadway management options are needed to improve travel choices.

Additional capacity and improvements to enhance reliability must be financially viable. MDOT's traditional funding sources would be unable to effectively finance, construct, operate, and maintain highway systems of this magnitude. A revenue source that provides necessary funding, such as tolling options, is needed to provide additional capacity and improvements addressing existing and anticipated high travel demand. A Public-Private Partnership (P3) with the state will be pursued to develop innovative approaches to design, build, finance, operate, and maintain the potential improvements developed through the NEPA Study.

The intent of the proposed action to be assessed in the Study is to accommodate existing traffic and long-term traffic growth, enhance trip reliability, and provide an additional roadway travel choice. Additional roadway options would also accommodate homeland security needs and improve the movement of goods and services throughout the Study corridor. The EIS will include a review of existing and future traffic, existing roadway infrastructure, and existing environmental conditions to establish context for the identification of alternatives and assessment of potential impacts. The analyses undertaken during the EIS will result in identification of the alternative that best meets the Study purpose and need while considering the environmental impacts of that alternative. The alternatives evaluated in the EIS will include build alternatives which provide additional capacity and offer travel choices for travelers on I-495 and I-270. The “No Build” alternative will be carried forward for baseline comparison purposes throughout the EIS development process.

The EIS will be prepared by MDOT SHA for FHWA to fulfill the requirements established in NEPA pursuant to current FHWA regulations and guidance. MDOT SHA intends to recommend a preferred alternative in the Draft EIS. The FHWA may issue a single Final EIS and Record of Decision (Final EIS/ROD), unless FHWA determines statutory criteria or consideration precluding issuance of a combined decision document.

Previous analyses which evaluated managed lanes in the Study corridors will be considered and incorporated by reference, as appropriate. The Study will consider relevant resource identification and field investigations from previous studies. To the extent consistent with FHWA NEPA regulations, conclusions reached as part of previous planning studies could inform the initial range of alternatives and focus the alternatives evaluation. Since 1990, several studies have examined various sections of I-495 and I-270 within the current Study limits in an effort to evaluate potential congestion relief and operational improvements. Among other issues, these studies considered the potential to provide additional capacity along I-495 and I-270 that could connect with adjacent transportation facilities. Recommendations resulting from each of these studies included the implementation of managed lanes (including Express Toll Lanes [ETL], High-Occupancy vehicle [HOV] lanes, and High-Occupancy Toll [HOT] lanes) on I-495 and radial facilities, (i.e., I-270 and I-95). Studies have included: the Statewide Commuter Assistance Study Corridor Profile Reports (MDOT, 1990); the Capital Beltway HOV Feasibility Study (MDOT, 1992); The Potential for Circumferential Transit in the Washington Region (MWCOG, August 1993); the I-270/US 15 Multi-Modal Corridor Study (MDOT, 2002); the Capital Beltway Study EIS (VDOT, 2006); Maryland's Statewide Express Toll Lanes Network Initiative (MDOT, 2007); the West Side Mobility Study (MDOT and VDOT, 2009); and the Purple Line Study and the Capital Beltway Study (MDOT et al., 2013).

The Maryland's Statewide Express Toll Lanes Network Initiative (MDOT, 2007) built on the studies listed above and provided an overview of the state's vision for a Statewide Express Toll Lanes Network on the State's busiest highway segments in the Baltimore-Washington Region, including I-495 and I-270. The major benefit of the Express Toll Lanes cited in the study was the ability to provide needed highway lane capacity to ease the impact of congestion by providing transportation improvements sooner than traditional approaches could otherwise achieve. As a result, Metropolitan Washington Council of Governments (MWCOG) recognized this statewide approach to Express Toll Lanes as regionally significant and Express Toll Lanes on I-495 and I-270, as well as other corridors in the Baltimore Washington Region, became part of the Constrained Long-Range Plan.

In July 2017, the National Capital Region Transportation Planning Board at the MWCOG approved a set of ten regional initiatives for further study, which includes analyzing managed lanes on the portions of I-495 and I-270 that are included in the I-495 and I-270 Managed Lanes Study. In September 2017, Maryland Governor Hogan announced the intent to develop additional capacity along sections of I-270, I-495, and the Baltimore-Washington Parkway (MD 295). For I-495 and I-270, the Governor has proposed a P3 to design, build, finance, operate, and maintain this project to accelerate the delivery of improvements for congestion relief.

Scoping Process

FHWA and MDOT SHA will undertake a scoping process for the I-495 & I-270 Managed Lanes Study that will solicit input from the public and interested agencies on the issues that will be evaluated in EIS. This public outreach effort will educate and engage stakeholders regarding the nature and extent of the proposed action. FHWA and MDOT SHA will invite all interested individuals, organizations, and public agencies to comment on the scope of the EIS, including the purpose and need, potential alternatives to be studied, environmental impacts to be considered, evaluation methods to be used, and potential mitigation measures.

More information on public outreach activities, including future public workshops, will be available in a project coordination plan on the Study website. All public meetings related to the Study will be held in locations accessible to persons with disabilities. Any person who requires special assistance, such as a language interpreter, should contact the I-495 & I-270 P3 Office at (833) 858-5960 via email at 495-270-P3@sha.state.md.us at least 48 hours before the workshop.

Letters inviting agencies to be cooperating or participating in the environmental review process are being sent to those agencies that have jurisdiction or may have an interest in the EIS. Additionally, FHWA and MDOT SHA will notify cooperating and participating agencies of a separate agency scoping meeting.

DATES: Four initial public workshop presentations will be held in April 2018 to solicit public input regarding the scope of issues that will be included in the EIS. Written comments on the scope of the EIS should be provided to MDOT SHA by May 1, 2018, using the email address or physical mailing address listed below. Comments may also be provided in writing at the public workshops.

ADDRESSES: The public and other interested parties are encouraged to comment on-line at the Study's website (www.495-270-P3.com), via email at 495-270-P3@sha.state.md.us, or by hard copy during the public workshops. Hard copy comments can also be mailed to the I-495 & I-270 Project Office at 707 North Calvert Street, Baltimore MD 21202.

Authority: 23 U.S.C. 315; 49 CFR 1.48; 23 CFR 771.111 and 771.123.

(Catalog of Federal Domestic Assistance Program Number 20.205, Highway Research, Planning and Construction. The regulations implementing Executive Order 12372 regarding intergovernmental consultation on Federal programs and activities apply to this program.)

Issued on: March 8, 2018.
Gregory Murrill,
Division Administrator, Federal Highway Administration, Baltimore, Maryland.

[FR Doc. 2018-05354 Filed 3-15-18; 8:45 am]

BILLING CODE 4910-22-P